DEPARTMENT OF COMMERCE

National Telecommunications and Information Administration

National Spectrum Strategy (NSS) Listening Session

AGENCY: National Telecommunications and Information Administration, Department of Commerce.

ACTION: Notice of open meetings.

SUMMARY: The National Telecommunications and Information Administration (NTIA) will hold two public listening sessions to assist in its preparation of a National Spectrum Strategy (NSS) for the United States. NTIA is seeking input from the public as it develops a Strategy that identifies the actions needed to maximize the potential of our nation's spectrum resources. Access to spectrum contributes to technological innovation and economic growth and is critical to national security, public safety, and other national priorities. The agendas and other information regarding the events will be posted at [https://ntia.gov].

DATES: The listening sessions will be held on: Thursday, March 30, 2023, from 1:00 p.m. to 4:00 p.m., Eastern Daylight Time; and Tuesday, April 11, 2023, from 1:00 p.m. to 3:30 p.m., Eastern Daylight Time.

ADDRESSES: The NTIA National Spectrum Strategy Public Listening Session will be held on March 30th in the Yates Auditorium, U.S. Department of the Interior, 1849 C Street NW, Washington, DC 20240.

The NTIA National Spectrum Strategy Public Listening Session, hosted by SpectrumX—An NSF Center for Spectrum Innovation, will be held on April 11th in the Patricia George Decio Theatre at the DeBartolo Performing Arts Center, University of Notre Dame, 100 Performing Arts Center, Notre Dame, IN 46556.

Both sessions also will be webcast live via NTIA's public website, at [https://ntia.gov].

FOR FURTHER INFORMATION CONTACT: Please direct questions regarding this Notice to [nsslisteningsession@ntia.gov], indicating “National Spectrum Strategy Listening Session” in the subject line, or if by mail, address inquiries to National Telecommunications and Information Administration, U.S. Department of Commerce, 1401 Constitution Avenue NW, Washington, DC 20230. By telephone, contact John Alden at 202-482-8046. Please direct media inquiries to Charles Meisch, (202) 482-7002, or NTIA's Office of Public Affairs, press@ntia.gov.

SUPPLEMENTARY INFORMATION: Directions for providing inputs during the listening session: Those wishing to speak during the listening session should send an email (with “Request to Speak” in the subject line) to nsslisteningsession@ntia.gov to request inclusion on the speaker's list. Please provide (1) your name; (2) your affiliation (company or other organization) if any; (3) contact information, including city and state, an email address and telephone number; (4) the specific date and location of the listening session at which you would like to speak; and (5) the topic(s) you plan to address in your presentation.

Emails requesting inclusion on the speaker's list should be sent no later than five business days prior to the date of the listening session. These names will be considered for inclusion in the final program. Speakers will be allowed approximately five minutes to make their oral presentations during the session. Due to time limitations, there is no guarantee that all of those submitting requests to speak will be able to do so. If necessary, NTIA will select speakers so that a variety of stakeholders, viewpoints, and topics will be represented. Unfortunately, slides and other visual presentations cannot be accommodated. NTIA will inform those who have been selected to speak prior to each session, and NTIA may publish on its website a list of speakers in advance of each session.

Attendees or speakers needing accommodations should notify NTIA by sending an email to nsslisteningsession@ntia.gov, with “Listening Session Accommodations” in the subject line. Requests for accommodations should be sent no later than 10 days prior to the date of the listening session for which they will be needed.

Background: Access to radio-frequency spectrum is required for all wireless services. Sufficient access to spectrum is critical to the U.S. economy, as well as to many functions of civil society and federal, state and local government operations. Wireless phone and internet networks, Wi-Fi and trunked radio systems, intelligent transportation systems, satellite communications and remote sensing all rely on transmission and receipt of signals using RF spectrum, as do satellite radiolocation systems and government radars used for aeronautical, maritime, and terrestrial operations such as weather forecasting, aircraft safety and national defense.

NTIA oversees the Federal Government's use of spectrum and serves as the chief advisor to the President on issues of telecommunications policy, which includes the management of spectrum. NTIA works closely with the Federal Communications Commission (FCC), which regulates and manages spectrum use by non-Federal entities, including commercial service providers, state and local governments and private-sector users such as utility companies, manufacturers and academic and scientific institutions.

The Secretary of Commerce, working through NTIA and in collaboration with the FCC, is developing a National Spectrum Strategy (NSS) and implementation plan. The NSS will outline an approach to maintain U.S. leadership in advanced wireless technologies and services and to ensure the availability of spectrum resources to meet national requirements. As part of this effort, NTIA is seeking views and inputs from interested parties and stakeholders in several ways. These listening sessions will allow members of the public to provide oral presentations to those charged with developing the spectrum strategy and to listen to the views and perspectives of other speakers. The listening sessions will be recorded and made available on NTIA's website, at [https://ntia.gov ].

Topics that speakers may consider addressing in their oral presentations include, but are not limited to:

The development of a spectrum “pipeline” of bands to study for repurposing, to ensure that there will be sufficient spectrum for existing and future federal and non-federal services and missions.

The spectrum requirements for next-generation networks and technologies.

Technologies or processes that are currently available but perhaps not sufficiently used to facilitate spectrum sharing.

Additional research and development needed for new spectrum sharing models or regimes.

Processes needed to develop and implement a long-term strategic spectrum planning process.

Improved methods of engagement between federal and non-federal stakeholders regarding spectrum allocation and authorization, repurposing, sharing, and coordination

Innovations and next-generation capabilities for spectrum management models (including both licensed and unlicensed) to expand and improve spectrum access.

Policies that would help identify and enable development of new and innovative uses of spectrum.

Separately, NTIA is releasing a Request for Comments (RFC) that will allow interested parties to file written comments on these and related subjects. Parties can file comments at regulations.gov, utilizing the docket number NTIA-2023-0003. The RFC, including directions for filing written comments, can be found on NTIA's website at [https://www.ntia.gov]. Parties do not have to file written comments in response to the RFC in order to sign up to speak during a listening session or vice versa. Parties are encouraged, however, to review the RFC, including the comprehensive list of questions presented in that document, to inform their presentations during the listening sessions.

Stephanie Weiner,
Acting Chief Counsel, National Telecommunications and Information Administration.

[FR Doc. 2023-05407 Filed 3-15-23; 8:45 am]

BILLING CODE P